DEPARTMENT OF STATE

[Public Notice 5281]

Title: Statement of Policy on J-1 Agriculture Training Programs

AGENCY: Department of State.

ACTION: Statement of policy.

DATES: Effective Date: This policy is effective January 24, 2006.

FOR FURTHER INFORMATION CONTACT: Stanley S. Colvin, Director, Office of Exchange Coordination and Designation, U.S. Department of State, SA-44, 301 4th St., SW., Room 734, Washington, DC 20547. E-mail: jexchanges@state.gov; FAX: 202-203-5087.

SUMMARY: The Department hereby announces its policy regarding agriculture training programs, which are governed by the Department's Exchange Visitor Program regulations appearing in 22 CFR part 62.

Since 1949 the Department has permitted designated sponsors to conduct programs designed to train individuals in many industrial, professional, agricultural, and other occupational skills. Training programs utilizing the J visa are regulated by the Department under the authority of the Mutual Educational and Cultural Exchange Act of 1961, as amended (Fulbright-Hays Act), 22 U.S.C. 2451 et seq.; the Immigration and Naturalization Act, 8 U.S.C. 1101(a)(15)(J); the Foreign Affairs Reform and Restructuring Act of 1998, Public Law 105-277; as well as other statutory enactments, Reorganization Plans and Executive Orders. Regulations dealing with training programs appear at 22 CFR 62.22.

In 2005, the Government Accountability Office (GAO) examined the Department's management of the J visa Summer Work Travel and Trainee programs to ensure that only authorized activities are carried out under the programs and to identify potential risks of the programs and the data available to the Department to assess those risks. (“Stronger Action Needed to Improve Oversight and Assess Risks of the Summer Work Travel and Trainee Categories of the Exchange Visitor Program,” GAO-06-106, October 2005.)

Among other things, the GAO Report found that there was a potential that the trainee programs could be misused as employment programs and that trainees could be exploited by employers or other third parties. Agricultural training programs were found to be particularly problematic because of the potential for fraud. Abuses of the training regulations were not hidden; there were cases where there was not even an attempt to represent jobs as training, and which certain employers referred to their program participants as employees, rather than trainees. In one case cited, four trainees were placed with dairy farms that had an agreement with the program sponsor. Only one of the trainees had a firm grasp of English, and only one of the four farms participating in the program had a structured training plan. There were questions as to whether such programs were merely utilizing trainees for cheap labor and whether the trainees were simply receiving enough training to perform their work. (GAO Report, pp. 17, 21).

The Department has taken steps to address these concerns. Among other things, the Department has consulted with the Department of Labor and the Department of Agriculture in order to develop ways to better monitor agricultural training programs and to determine whether such agriculture training programs are subject to, and if so, whether they are in compliance with, existing statutes such as the Fair Labor Standards Act, as amended, 29 U.S.C. 201, et seq., and the Migrant and Seasonal Agricultural Workers Protection Act, Public Law 97-470, 29 U.S.C. 1801 et seq.

Pending the Department's resolution of these outstanding issues, the Department of State will not designate any new J visa agricultural training programs, nor will it permit currently-designated training programs offering agricultural training to expand the agricultural training component of their programs. Redesignation of programs will continue as required by existing regulations.

Dated: January 18, 2006.
Stanley S. Colvin,
Director, Office of Exchange Coordination, Bureau of Educational and Cultural Affairs, Department of State.

[FR Doc. E6-820 Filed 1-23-06; 8:45 am]

BILLING CODE 4710-05-P